ENVIRONMENTAL PROTECTION AGENCY

40 CFR Part 52

Approval and Promulgation of Implementation Plans

CFR Correction

In Title 40 of the Code of Federal Regulations, part 52 (§§ 52.01 to 52.1018), revised as of July 1, 2004, § 52.21 is corrected by removing paragraphs (b)(2)(iii)(h)(1) and (2).

[FR Doc. 05-55508 Filed 6-21-05; 8:45 am]

BILLING CODE 1505-01-D